DEPARTMENT OF EDUCATION

[CFDA Number: 84.327U]

Reopening, Applications for New Awards; Technology and Media Services for Individuals With Disabilities—Center on Online Learning and Students With Disabilities

AGENCY: Office of Special Education and Rehabilitative Services, Department of Education.

ACTION: Notice.

SUMMARY: On May 5, 2011, we published in the Federal Register (76 FR 25676-25682) a notice inviting applications for a fiscal year (FY) 2011 award under a priority for a Center on Online Learning and Students with Disabilities. The notice provided deadline dates and other information regarding the transmittal of applications for the FY 2011 competition under the Technology and Media Services for Individuals with Disabilities program authorized by the Individuals with Disabilities Education Act (IDEA), as amended. The notice inviting applications provided a deadline date of June 20, 2011 for the transmittal of applications for the competition.

SUPPLEMENTARY INFORMATION: The purpose of this notice is to reopen the competition for the Center on Online Learning and Students with Disabilities (84.327U) that was announced in the notice inviting applications published on May 5, 2011 in the Federal Register (76 FR 25676-25682). We are reopening this competition because we want to provide applicants more time to submit applications in light of a correction we are making to the notice inviting application. Elsewhere in this issue of the Federal Register, we are making a correction to the notice inviting applications to clarify the Project Period announced in the notice inviting applications. Specifically, we clarify that applications must include plans for both the 36 month award and the 24 month extension.

Any applicant that has already submitted an application that includes plans for both the 36-month award and the 24 month extension under the Center on Online Learning and Students with Disabilities competition does not need to resubmit its application.

Deadline for Transmittal of Applications: July 25, 2011.

Note to Applicants: The notice published on May 5, 2011, provides other information that applies to this competition. Specifically, the priority in that notice, entitled “Center on Online Learning and Students with Disabilities priority CFDA 84.327U,” identifies the requirements for applications submitted in response to this notice.

Deadline for Intergovernmental Review: The deadline date for Intergovernmental Review under Executive Order 12732 is extended to September 23, 2011.

FOR FURTHER INFORMATION CONTACT: David Malouf, U.S. Department of Education, 400 Maryland Avenue, SW., Room 4114, Potomac Center Plaza, Washington, DC 20202-2600. Telephone: (202) 245-6253.

If you use a telecommunications device for the deaf (TDD), call the Federal Relay Service (FRS), toll-free, at 1-800-877-8339.

Accessible Format: Individuals with disabilities can obtain this notice in an accessible format (e.g., braille, large print, audiotape, or computer diskette) by contacting the persons listed in this section.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: July 6, 2011.
Alexa Posny,
Assistant Secretary for Special Education and Rehabilitative Services.

[FR Doc. 2011-17345 Filed 7-8-11; 8:45 am]

BILLING CODE 4000-01-P